Title 3—

The President

Proclamation 10288 of October 14, 2021

Blind Americans Equality Day, 2021

By the President of the United States of America

A Proclamation

Thirty-one years ago, our Nation moved closer to fulfilling its foundational promise of equal dignity and opportunity for all with the enactment of the landmark Americans with Disabilities Act. This bipartisan legislation—which I proudly co-sponsored as a member of the United States Senate—has made a profound difference in the lives of blind Americans, paving the way for greater opportunity, self-sufficiency, independent living, and equitable participation in all aspects of life. On Blind Americans Equality Day, we recognize the rights, talents, and contributions of blind and visually impaired Americans who represent every segment of our diverse population.

My Administration is committed to building on the foundation of the Americans with Disabilities Act by ensuring that blind and visually impaired Americans have equitable opportunities for employment and career advancement. That is why I signed Executive Orders to advance diversity, equity, inclusion, and accessibility within the Federal workforce and to raise the minimum wage of Federal contractors to $15 an hour—orders which will directly impact our many Federal contractors who are blind and visually impaired. These actions will further enable Federal workers with disabilities to access reasonable accommodations and gain greater economic self-sufficiency while spurring the Federal Government to be a model employer in providing equitable, accessible, and inclusive work environments for employees with disabilities.

My Administration is also providing funding opportunities across agencies to advance competitive integrated employment opportunities for disabled workers. And to provide much-needed financial relief during the COVID-19 pandemic, my Administration recently awarded $20 million through the Randolph-Sheppard Vending Facilities Program to assist blind entrepreneurs and provide opportunities for blind vendors to operate vending facilities on Federal property.

Building an accessible, equitable Nation for all Americans is a key part of building back better, and for many families, fulfilling that commitment begins in America's classrooms. When we invest in education, we advance equity and opportunity for millions of students, including children who are blind and visually impaired. My American Rescue Plan has made over $3 billion available to help State educational agencies recover from the impact of the COVID-19 pandemic. This funding is supporting special education, early intervention, and related services for children with disabilities and their families. While the American Rescue Plan increased the amount of the Federal Government's financial contribution to the education of children with disabilities, my Administration is also working with the Congress to fully fund the Individuals with Disabilities Education Act—so that disabled students can receive an education that is tailored to their individual needs.

This is about who we are as Americans—and these actions are helping us move our country closer to the fulfillment of our highest ideals of equity and opportunity for all. On Blind Americans Equality Day, we recommit to ensuring freedom, equality, and opportunity for all blind and visually impaired Americans, whose contributions continue to make our Nation stronger.

By joint resolution approved on October 6, 1964 (Public Law 88-628, as amended), the Congress authorized October 15 of each year as “White Cane Safety Day,” which is recognized today as “Blind Americans Equality Day,” to honor the contributions of blind and visually impaired Americans.

NOW, THEREFORE, I, JOSEPH R. BIDEN JR., President of the United States of America, by virtue of the authority vested in me by the Constitution and the laws of the United States, do hereby proclaim October 15, 2021, as Blind Americans Equality Day. I call upon all government officials, educators, volunteers, and all the people of the United States to mark this day with appropriate programs, ceremonies, and activities.

IN WITNESS WHEREOF, I have hereunto set my hand this fourteenth day of October, in the year of our Lord two thousand twenty-one, and of the Independence of the United States of America the two hundred and forty-sixth.

[FR Doc. 2021-22877

Filed 10-18-21; 8:45 am]

Billing code 3395-F2-P